ENVIRONMENTAL PROTECTION AGENCY

[EPA-HQ-OPP-2014-0558; FRL-9916-22]

Proposed Removal of Certain Inert Ingredients From Approved Chemical Substance List for Pesticide Products

AGENCY: Environmental Protection Agency (EPA).

ACTION: Notice.

SUMMARY: EPA is proposing to remove certain chemical substances from the current listing of inert ingredients approved for use in pesticide products because the inert ingredients are no longer used in any registered pesticide product.

DATES: Comments must be received on or before November 21, 2014.

ADDRESSES: Submit your comments, identified by docket identification (ID) number EPA-HQ-OPP-2014-0558, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: For general information contact: Cameo G. Smoot, Field and External Affairs Division (7506P), Office of Pesticide Programs, Environmental Protection Agency; 1200 Pennsylvania Ave. NW., Washington DC 20460-0001; telephone number: (703) 305-5454; email address: smoot.cameo@epa.gov.

For chemical listing inquiries contact: Kerry B. Leifer, Registration Division (7505C), Office of Pesticide Programs, Environmental Protection Agency, 1200 Pennsylvania Ave. NW., Washington DC 20460-0001; telephone number (703) 308-8811; email address: leifer.kerry@epa.gov.

SUPPLEMENTARY INFORMATION:

I. General Information

A. Does this action apply to me?

You may be potentially affected by this action if you engage in activities related to the registration of pesticide products, including but not limited to, the use of approved inert ingredients used in registered pesticide products. Potentially affected entities may include, but are not limited to, engaging in the formulation and preparation of agricultural and household pest control chemicals or pesticide and other agricultural and household pest control chemicals or inert manufacturers and those who make proprietary inert ingredient formulations or pesticide and other agricultural chemical manufacturing generally identified by the North American Industrial Classification System (NAICS). You may also be affected by this action if you are a consumer or user of pesticides, or if you are exposed to pesticides.

This listing is not intended to be exhaustive, but rather provides a guide for readers to help determine whether this document applies to them and which entities are likely to be affected by this action. Other types of entities not listed in this unit could also be affected. The NAICS code 325320 has been provided to assist you and others in determining whether this action might apply to certain entities. If you have any questions regarding the applicability of this action to a particular entity, consult either person listed under FOR FURTHER INFORMATION CONTACT.

B. What should I consider as I prepare my comments for EPA?

1. Submitting CBI. Do not submit CBI information to EPA through regulations.gov or email. Contact Kerry Leifer, email address: leifer.kerry@epa.gov, to discuss options for submitting CBI to the Agency.

2. Tips for preparing your comments. When preparing and submitting your comments, see the commenting tips at http://www.epa.gov/dockets/comments.html.

II. Discussion

EPA maintains a list of chemical substances that have been approved for use as inert ingredients in pesticide products. Inert ingredients on this list do not need further approval prior to inclusion in a pesticide formulation for a non-food use. These individual formulations are subject to data requirements in 40 CFR part 158, regardless of whether the inert ingredient is on the approved list. If an application for registration of a pesticide product includes inert ingredients not on the approved list, the inert ingredient will need approval and require payment of a fee in accordance with section 33 of FIFRA, 7 U.S.C. 136w-8.

EPA is considering removing from this list a set of 72 chemical substances that are no longer being used as an inert ingredient in a pesticide product. Some of the 72 chemical substances are a subset of a larger list of 371 inert ingredients that were the subject of two petitions submitted to EPA in 2006 (see docket) requesting that the Agency require that the identities of hazardous ingredients identified in the petitions be disclosed on pesticide products containing those ingredients. EPA is taking this action, fulfilling a commitment as described in an EPA May 22, 2014 amended response to the petitioners (see docket). EPA would remove from the approved list those inert ingredients listed in the petitions that are no longer being used in pesticide products.

The list of 72 inert ingredients was generated by an Agency evaluation of pesticide product compositional information to determine which of those 371 chemical substances listed as inert ingredients on the EPA-approved list are in use or not in use in currently registered pesticide formulations. The list of chemical substances that are no longer being used as an inert ingredient is available in the docket for this action, under docket ID number EPA-HQ-OPP-2014-0558 at http://www.regulations.gov.

Once an inert ingredient is removed from the list, any proposed future use of the inert ingredient would need to be supported by data provided to and reviewed by the EPA as part of a new inert ingredient submission request. The type of data needed to evaluate a new inert ingredient may include, among others, studies to evaluate potential carcinogenicity, adverse reproductive effects, developmental toxicity, genotoxicity as well as environmental effects associated with any chemical substance that is persistent or bioaccumulative. Information regarding the inert ingredient approval process may be found at http://www2.epa.gov/pesticide-registration/guidance-documents-inert-ingredients.

EPA suggests that pesticide registrants review their records to ensure that the chemical substances, listed by chemical name and Chemical Abstracts Service Registry Number, listed in the docket for this action are, in fact, no longer used as inert ingredients in their registered pesticide products. While EPA has endeavored to prepare an accurate list, if a pesticide registrant is aware of a registered product containing any of the 72 chemical substances, that registrant should contact the Agency directly, using the contact listed under FOR FURTHER INFORMATION CONTACT (Chemical Listing Inquiries).

Similarly, producers of proprietary mixtures currently approved for use as inert ingredients in pesticide products should also review their records to ensure that the chemical substances listed in the docket for this action are, in fact, not currently used in their proprietary mixtures.

After the close of the comment period, EPA will consider all comments received and determine appropriate action.

Authority: 7 U.S.C. 136 et seq.

Dated: October 7, 2014.
James Jones,
Assistant Administrator, Office of Chemical Safety and Pollution Prevention.

[FR Doc. 2014-24586 Filed 10-21-14; 8:45 am]

BILLING CODE 6560-50-P